DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains in consultation with the appropriate Indian tribes, and has determined that there is no cultural affiliation between the remains and any present-day Indian tribe. Representatives of any Indian tribe that believes itself to be culturally affiliated with the human remains may contact the Minnesota Indian Affairs Council. Disposition of the human remains to the Indian tribes stated below may occur if no additional requestors come forward.

DATES: Representatives of any Indian tribe that believes it has a cultural affiliation with the human remains should contact the Minnesota Indian Affairs Council at the address below by February 13, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains in the possession of the Minnesota Indian Affairs Council (MIAC). The human remains were removed from Beltrami County, MN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the MIAC professional staff in consultation with representatives of the Leech Lake Band of the Minnesota Chippewa Tribe, Minnesota; Mille Lacs Band of the Minnesota Chippewa Tribe, Minnesota; Minnesota Chippewa Tribe, Minnesota; Red Lake Band of Chippewa Indians, Minnesota; and the White Earth Band of Minnesota Chippewa Tribe, Minnesota (hereinafter referred to as “The Tribes”).

History and Description of the Remains

At an unknown date, human remains representing, at minimum, six individuals were recovered from site 21-BL-22, Lake Irving, Beltrami County, MN. The remains were removed during construction of a building and subsequently transferred to Bemidji State University. In 1990, the human remains were transferred to the MIAC (H170). No known individuals were identified. No associated funerary objects are present.

These human remains are associated with the Woodland Tradition, a broad archeological classification which cannot be associated with any present-day Indian tribe.

At an unknown date, human remains representing, at minimum, one individual were removed from the Bemidji area, Beltrami County, MN, by unknown person(s). In 1974, the remains were donated to the Minneapolis Public Library and subsequently, at an unknown date, were donated to the Science Museum of Minnesota (Acc. A74:14:1). In 1994, the human remains were transferred to the MIAC (H257). No known individuals were identified. No associated funerary objects are present.

The condition of the remains and cranial morphology identify these human remains as pre-contact American Indian. These human remains have no archeological classification and cannot be associated with any present-day Indian tribe.

In 1998, human remains representing, at minimum, one individual were recovered from site 21-BL-37, Midway site, Beltrami County, MN. The remains were removed during an archeological survey by Rose Kluth of the Leech Lake Heritage Sites Program, and transferred to the Minnesota Office of the State Archeologist. In 2002, the human remains were transferred to the MIAC (H379). No known individuals were identified. No associated funerary objects are present.

These human remains are associated with the Woodland Tradition, a broad archeological classification which cannot be associated with any present-day Indian tribe.

At an unknown date, human remains representing, at minimum, one individual were recovered from a road construction project on Hwy 197 in Beltrami County, MN, and transferred to the Minnesota Office of the State Archaeologist. In 2002, the human remains were transferred to the MIAC (H392). No known individuals were identified. No associated funerary objects are present.

The condition of the remains and femora morphology identify these human remains as pre-contact American Indian affiliation. The remains have no archeological classification and cannot be associated with any present-day Indian tribe.

In 2007, human remains representing, at minimum, one individual were recovered from an undesignated site in Diamond Point Park in Bemidji, Beltrami County, MN. The remains were removed during an archeological survey by The 106 Group Ltd. and transferred to the Bemidji Police Department, who transferred them to the Minnesota Bureau of Criminal Apprehension—Bemidji Office for identification. The human remains were identified as pre-contact American Indian based on the condition of the bones and dental morphology. The human remains were then transferred to the MIAC (H426). No known individuals were identified. No associated funerary objects are present.

Patterns of dental attrition and dental morphology identify these human remains as pre-contact American Indian affiliation. The remains have no archeological classification and cannot be associated with any present-day Indian tribe.

At an unknown date, human remains representing, at minimum, one individual were removed from an undesignated site on the east side of Lake Bemidji, Beltrami County, MN, by unknown person(s) and transferred to the Beltrami County Sheriff's Office. In 2007, the human remains were transferred to the MIAC (H428). No known individuals were identified. No associated funerary objects are present.

The condition of the remains and the context of recovery identify these human remains as pre-contact American Indian affiliation. The remains have no archeological classification and cannot be associated with any present-day Indian tribe.

In 2007, human remains representing, at minimum, one individual were recovered from a site in Bemidji, Beltrami County, MN. The remains were removed during a sewer construction project and transferred to the MIAC (H444). No known individual was identified. No associated funerary objects are present.

The condition of the remains and the context of recovery identify these human remains as pre-contact American Indian affiliation. These human remains from Beltrami County have no archeological classification and cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains were removed is the aboriginal land of The Tribes.

• Pursuant to 25 U.S.C. 3001(9), the human remains described in this notice represent the physical remains of 12 individuals of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before February 13, 2012. Disposition of the human remains to The Tribes may proceed after that date if no additional requestors come forward.

The Minnesota Indian Affairs Council is responsible for notifying The Tribes that this notice has been published.

Dated: January 9, 2012.
Sherry Hutt,
Manager, National NAGPRA Program.

[FR Doc. 2012-520 Filed 1-12-12; 8:45 am]

BILLING CODE 4312-50-P